FEDERAL COMMUNICATIONS COMMISSION

Notice of Public Information Collection(s) Being Submitted for Review and Approval to the Office of Management and Budget (OMB), Comments Requested

August 5, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before September 9, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: Judith B. Herman, Office of Managing Director, (202) 418-0214. For additional information or copies of the information collection(s), contact Judith B. Herman, OMD, 202-418-0214 or email judith-b.herman@fcc.gov.

SUPPLEMENTARY INFORMATION: OMB Control Number: 3060-1139.

Title: Residential Fixed Broadband Services Testing and Measurement.

Form Number: N/A.

Type of Review: Extension of a currently approved collection.

Respondents: Individuals or households.

Number of Respondents and Responses: 11,000 respondents; 11,000 responses.

Estimated Time per Response: 1 hour.

Frequency of Response: On occasion and biennial reporting requirements.

Obligation to Respond: Voluntary. Statutory authorities for this information collection is contained in the American Reinvestment and Recovery Act (ARRA) of 2009, Pub. L. No. 111-5 and the Broadband Data Improvement Act of 2008, Pub. L. No. 110-385.

Total Annual Burden: 11,000 hours.

Total Annual Cost: N/A.

Privacy Act Impact Assessment: Yes. However, no personally identifiable information (PII) will be transmitted to the Commission from the survey contract vendor as a matter of vendor policy. SamKnows, Inc. maintains a series of administrative, technical and physical safeguards to protect against the transmission of personally identifying information. At point of registration, individuals will be given full disclosure, highlighting what information will be collected, and importantly, what information will not be collected.

Nature and Extent of Confidentiality: Yes. See Privacy Act Impact Assessment above.

Needs and Uses: The Commission will submit this expiring information collection during this comment period to obtain the full three year clearance from the Office of Management and Budget (OMB). There is no change in the reporting requirement and there is no change in the Commission's burden estimates.

On April 2, 2010, the Commission submitted this information collection to the OMB under their emergency processing provisions of 5 CFR 1320.13. The Commission obtained OMB approval on 4/30/2010. Emergency approvals are only granted for six months. Therefore, the Commission is now seeking the regular clearance from them.

The Commission's Office of Strategic Policy and Planning Analysis and the Consumer Intergovernmental Affairs Bureau plan to continue to conduct a hardware-based test and analysis of 11,000 consumer broadband connections to examine the performance of services across a number of parameters. This survey is crucial to comparing what consumers know - and need to know - about the speeds and performance, and terms and conditions of broadband and related services to services purchased.

The Commission has contracted with SamKnows, Inc. to measure the speeds and performance of a representative, cost-effective, statistically relevant sample of US fixed broadband households across geographies, technologies and providers. This measurement will occur on an opt-in, voluntary basis. This representative sample will be used to create a baseline level of performance and measurements for the FCC. The third party contractor (SamKnows, Inc.) will deploy testing devices to begin measurement, and these results will be then used to inform measurement standards for performance of broadband services, in support of the FCC-led National Broadband Plan.

Federal Communications Commission.
Marlene H. Dortch,
Secretary, Office of the Secretary, Office of Managing Director.

[FR Doc. 2010-19687 Filed 8-9-10; 8:45 am]

BILLING CODE 6712-01-S